FEDERAL ELECTION COMMISSION

Sunshine Act Notices

AGENCY: Federal Election Commission.

Date and Time: Wednesday, September 23, 2009, 10 a.m.

Place: 999 E Street, NW., Washington, DC (Ninth Floor).

Status: This Meeting Will Be Closed to the Public.

Items to be Discussed: Compliance matters pursuant to 2 U.S.C. 437g.

Audits conducted pursuant to 2 U.S.C. 437g., § 438(b), and Title 26, U.S.C.

Matters concerning participation in civil actions or proceedings or arbitration.

Internal personnel rules and procedures or matters affecting a particular employee.

Date and Time: Thursday, September 24, 2009, at 10 a.m.

Place: 999 E Street, NW., Washington, DC (Ninth Floor).

Status: This Meeting Will Be Open to the Public.

Items to be Discussed: Correction and Approval of Minutes.

Modification of Agency Procedure for Probable Cause Hearings.

Proposed Modifications of Agency Procedures.

Proposal to Post Substantive Litigation Documents From All Parties and Amid on the FEC Website.

Management and Administrative Matters.

Individuals who plan to attend and require special assistance, such as sign language interpretation or other reasonable accommodations, should contact Mary Dove, Commission Secretary, at (202) 694-1040, at least 72 hours prior to the hearing date.

Person to Contact for Information: Judith Ingram, Press Officer, Telephone: (202) 694-1220.

Mary W. Dove,
Secretary of the Commission.

[FR Doc. E9-22888 Filed 9-24-09; 8:45 am]

BILLING CODE 6715-01-M